DEPARTMENT OF TRANSPORTATION

Pipeline and Hazardous Materials Safety Administration

[Docket No. PHMSA 2015-0004]

Pipeline Safety: Information Collection Activities

AGENCY: Pipeline and Hazardous Materials Safety Administration (PHMSA), DOT.

ACTION: Notice and request for comments.

SUMMARY: On February 4, 2015, in accordance with the Paperwork Reduction Act of 1995, the Pipeline and Hazardous Materials Safety Administration (PHMSA) published a notice in the Federal Register (80 FR 6172) inviting comments on an information collection titled “Transportation of Hazardous Liquids by Pipeline: Recordkeeping and Accident Reporting” identified by Office of Management and Budget (OMB) control number 2137-0047. This information collection will be expiring on July 31, 2015. PHMSA will request an extension with a minor revision for this information collection.

During the 60-day comment period, PHMSA received no comments in response to this collection. PHMSA is publishing this notice to provide the public with an additional 30 days to comment on the renewal of this information collection and announce that the information collection will be submitted to OMB for approval.

DATES: Interested persons are invited to submit comments on or before May 29, 2015 to be assured of consideration.

ADDRESSES: You may submit comments identified by the docket number PHMSA-2015-0004 by any of the following methods:

• Fax: 1-202-395-5806.

• Mail: Office of Information and Regulatory Affairs, Records Management Center, Room 10102 NEOB, 725 17th Street NW., Washington, DC 20503, ATTN: Desk Officer for the U.S. Department of Transportation/PHMSA.

• Email: Office of Information and Regulatory Affairs, OMB, at the following email address: OIRA_Submission@omb.eop.gov.

Requests for a copy of the Information Collection should be directed to Cameron Satterthwaite by telephone at 202-366-1319, by fax at 202-366-4566, by email at cameron.satterthwaite@dot.gov, or by mail at U.S. Department of Transportation, PHMSA, 1200 New Jersey Avenue SE., PHP-30, Washington, DC 20590-0001.

FOR FURTHER INFORMATION CONTACT: Angela Dow by telephone at 202-366-1246, by email at angela.dow@dot.gov, by fax at 202-366-4566, or by mail at U.S. Department of Transportation, PHMSA, 1200 New Jersey Avenue SE., PHP-30, Washington, DC 20590-0001.

SUPPLEMENTARY INFORMATION:

A. Background

Section 1320.8(d), title 5, Code of Federal Regulations, requires PHMSA to provide interested members of the public and affected agencies an opportunity to comment on information collection and recordkeeping requests. This notice identifies an information collection request that PHMSA will be submitting to OMB for minor revision and extension approval. The information collection expires July 31, 2015, and is identified under OMB Control No. 2137-0047, titled: “Transportation of Hazardous Liquids by Pipeline: Recordkeeping and Accident Reporting.” This information collection addresses general recordkeeping and accident reporting requirements for hazardous liquid pipeline operators under 49 CFR part 195. The minor revision, as more fully described in the February notice, simplifies the instructions for reporting the amount of product released when completing form PHMSA F 7000-1 ACCIDENT REPORT—HAZARDOUS LIQUID PIPELINE SYSTEMS. This proposed revision to the instructions will not increase the hourly burden estimate for this information collection.

B. Summary of Comments Received

During the 60-day comment period, PHMSA received no comments on this information collection.

C. Summary of Impacted Collection

The following information is provided for this information collection: (1) Title of the information collection; (2) OMB control number; (3) Type of request; (4) Abstract of the information collection activity; (5) Description of affected public; (6) Estimate of total annual reporting and recordkeeping burden; and (7) Frequency of collection. PHMSA will request a three-year term of approval for this information collection activity. PHMSA requests comments on the following information collection:

Title: Transportation of Hazardous Liquids by Pipeline: Recordkeeping and Accident Reporting.

OMB Control Number: 2137-0047.

Current Expiration Date: 7/31/2015.

Type of Request: Revision.

Abstract: This information collection covers recordkeeping and accident reporting by hazardous liquid pipeline operators who are subject to 49 CFR part 195. Section 195.50 specifies the definition of an “accident” and the reporting criteria for submitting a Hazardous Liquid Accident Report (form PHMSA F7000-1) is detailed in § 195.54. PHMSA is proposing to revise the form PHMSA F7000-1 instructions for editorial and clarification purposes.

Affected Public: Hazardous liquid pipeline operators.

Annual Reporting and Recordkeeping Burden:

Annual Responses: 897.

Annual Burden Hours: 52,429.

Frequency of collection: On Occasion.

Comments are invited on:

(a) The need for the proposed collection of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Issued in Washington, DC, on April 22, 2015.
Alan K. Mayberry,
Deputy Associate Administrator for Policy and Programs.

[FR Doc. 2015-09804 Filed 4-28-15; 8:45 am]

BILLING CODE 4910-60-P